DEPARTMENT OF ENERGY

Federal Energy Regulatory Commission

[Docket No. RP01-622-000]

Mississippi River Transmission Corporation; Notice of Tariff Filing

October 4, 2001.

Take notice that on September 28, 2001, Mississippi River Transmission Corporation (MRT) filed with the Commission its annual fuel adjustment filing pursuant to Section 24.1(a) of the General Terms and Conditions of MRT's FERC Gas Tariff, Third Revised Volume No. 1, requesting an effective date of November 1, 2001, MRT filed the following sheets:

Forty-third Revised Sheet No. 5

Forty-third Revised Sheet No. 6

Fortieth Revised Sheet No. 7

Fourteenth Revised Sheet No. 8

MRT states that the purpose of this filing is to adjust the Fuel Use and Loss Percentages under its Rate Schedules FTS, SCT, ITS, FSS and ISS.

MRT further states that a copy of this filing is being mailed to each of MRT's customers and to the state Commissions of Arkansas, Illinois, Louisiana, Missouri and Texas.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25520 Filed 10-10-01; 8:45 am]

BILLING CODE 6717-01-P